DEPARTMENT OF THE INTERIOR

Fish and Wildlife Service

Draft Recovery Plan for Two Plants From Rota (Nesogenes rotensis and Osmoxylon mariannense)

AGENCY: U.S. Fish and Wildlife Service, Interior.

ACTION: Notice of document availability for review and comment.

SUMMARY: We, the U.S. Fish and Wildlife Service, announce the availability of the Draft Recovery Plan for Two Plants from Rota (Nesogenes rotensis and Osmoxylon mariannense) (no common names) for public review and comment.

DATES: Comments on the draft recovery plan must be received on or before June 26, 2006.

ADDRESSES: Copies of the draft recovery plan are available by request from the U.S. Fish and Wildlife Service, Pacific Islands Fish and Wildlife Office, 300 Ala Moana Boulevard, Room 3-122, Box 50088, Honolulu, Hawaii 96850 (telephone: 808-792-9400). An electronic copy of the draft recovery plan is also available at: http://endangered.fws.gov/recovery/index.html#plans.

FOR FURTHER INFORMATION CONTACT: The Field Supervisor, at the above Pacific Islands Fish and Wildlife Office.

SUPPLEMENTARY INFORMATION:

Background

Restoring endangered or threatened animals and plants to the point where they are again secure, self-sustaining members of their ecosystems is a primary goal of our endangered species program. The Endangered Species Act (16 U.S.C. 1531 et seq.) (ESA) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the ESA requires that public notice, and an opportunity for public review and comment, be provided during recovery plan development. We will consider all information presented during the public comment period prior to approval of each new or revised recovery plan. Substantive comments on the recovery needs of the species or other aspects of recovery plan development may result in changes to the recovery plan. Substantive comments regarding recovery plan implementation may not necessarily result in changes to the recovery plan, but will be forwarded to appropriate Federal or other entities so that they can take these comments into account during the course of implementing recovery actions. Individual responses to comments will not be provided.

Nesogenes rotensis and Osmoxylon mariannense are found only on the island of Rota in the Commonwealth of the Northern Mariana Islands (CNMI). Both species were federally listed as endangered in 2004 (69 FR 18499), and O. mariannense is also protected by the government of the Commonwealth of the Northern Mariana Islands (CNMI). Currently, there are 2 known populations of N. rotensis consisting of 15 to 20 plants each. There are 10 known individuals of O. mariannense scattered through the Sabana (the cloudswept plateau that dominates the western half of Rota), including 2 individuals outplanted from past controlled propagation efforts.

Nesogenes rotensis is found on exposed, raised limestone flats in non-forested strand habitat. Osmoxylon mariannense is found in limestone forests on the Sabana, a raised plateau unique in the Mariana archipelago, that are often shrouded in clouds and mist.

Human activities are believed to be the primary factors leading to the small population sizes and limited distribution of Nesogenes rotensis and Osmoxylon mariannense, and include: agriculture, ranching, non-native plant and animal introductions, resort and beach park development in the coastal habitat of N. rotensis, and road construction and maintenance in the Sabana habitat of O. mariannense. In the last decade, several major typhoons have made landfall on Rota, severely impacting individuals of both species. Another factor that may affect the recovery of these two species is their vulnerability to extinction from reduced reproductive vigor due to their small population sizes.

The objective of this recovery plan is to restore and maintain multiple naturally reproducing populations of Nesogenes rotensis and Osmoxylon mariannense on the island of Rota. The draft recovery plan for these two plants focuses on the following actions: (1) Coordinating and monitoring recovery efforts; (2) addressing factors affecting viability of the wild populations; (3) monitoring N. rotensis and O. mariannense populations, establishing new populations, and augmenting existing populations; and (4) providing educational informational opportunities to build public support for conservation.

Public Comments Solicited

We solicit written comments on the draft recovery plan described. All comments received by the date specified above will be considered in the finalization of this plan.

Authority

The authority for this action is section 4(f) of the Endangered Species Act, 16 U.S.C. 1533 (f).

Dated: February 17, 2006.
David J. Wesley,
Acting Regional Director, Region 1, U.S. Fish and Wildlife Service.

[FR Doc. E6-6143 Filed 4-24-06; 8:45 am]

BILLING CODE 4310-55-P